DEPARTMENT OF COMMERCE

National Oceanic and Atmospheric Administration

[I.D. 022703A]

Endangered and Threatened Species; Take of Anadromous Fish

AGENCY: National Marine Fisheries Service (NMFS), National Oceanic and Atmospheric Administration (NOAA), Commerce.

ACTION: Receipt of application for scientific research permits (1415 and 1419) and request for comment.

SUMMARY: Notice is hereby given that NMFS has received an application for scientific research from U.S. Fish and Wildlife Service (USFWS) in Sacramento, CA (1415) and California Departments of Fish and Game and Water Resources (CDFG/CDWR) in Oroville and Sacramento, CA (1419). These permits would affect three Evolutionarily Significant Units (ESUs) of salmonids identified in the SUPPLEMENTARY INFORMATION section below. This document serves to notify the public of the availability of the permit applications for review and comment.

DATES: Written comments on the permit applications must be received at the appropriate address or fax number (see ADDRESSES) no later than 5 p.m. Pacific Standard Time on April 17, 2003.

ADDRESSES: Written comments on this request should be sent to the appropriate office as indicated below. Comments may also be sent via fax to the number indicated for the request. Comments will not be accepted if submitted via e-mail or the Internet. The applications and related documents are available for review, by appointment. For permits 1415 and 1419: Protected Resources Division, NMFS, 650 Capitol Mall, Suite 8-300, Sacramento, CA 95814 (ph: 916-930-3600, fax: 916-930-3629). Documents may also be reviewed by appointment in the Office of Protected Resources, F/PR3, NMFS, 1315 East-West Highway, Silver Spring, MD 20910 3226 (301 713 1401).

FOR FURTHER INFORMATION CONTACT: Rosalie del Rosario at phone number 916-930-3600, or e-mail: Rosalie.delRosario@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to 3 federally listed salmonid ESUs: endangered Sacramento River Winter-run Chinook salmon (Oncorhynchus tshawytscha), threatened Central Valley spring-run Chinook salmon (O. tshawytscha), and threatened Central Valley steelhead (O. mykiss).

New Applications Received

USFWS requests a 5-year permit to conduct monitoring and research on Sacramento River winter-run Chinook salmon, Central Valley spring-run Chinook salmon, and Central Valley steelhead throughout the Central Valley of California.

CDFG/CDWR requests a 1-year permit to extend normal fish ladder operations at the Feather River Hatchery to allow for additional genetic, life history, and population assessments of wild and hatchery adult Central Valley spring-run Chinook salmon and Central Valley steelhead in the Feather River.

Dated: March 12, 2003.
Barbara Schroeder,
Acting Chief, Endangered Species Division, Office of Protected Resources, National Marine Fisheries Service.

[FR Doc. 03-6470 Filed 3-17-03; 8:45 am]

BILLING CODE 3510-22-S